DEPARTMENT OF TRANSPORTATION

Surface Transportation Board

[STB Finance Docket No. 34545]

Genesee & Wyoming, Inc.—Continuance in Control Exemption-Tazewell & Peoria Railroad, Inc.

AGENCY: Surface Transportation Board.

ACTION: Notice of Exemption.

SUMMARY: The Board grants an exemption, under 49 U.S.C. 10502, from the prior approval requirements of 49 U.S.C. 11323-25 for Genesee & Wyoming, Inc. (GWI), a noncarrier, to continue in control of Tazewell & Peoria Railroad, Inc. (TPR), upon TPR's becoming a rail carrier pursuant to a related transaction involving the lease and operation of a line of the Peoria and Pekin Union Railway Company.¹ GWI is a holding company that directly or indirectly controls 1 Class II rail carrier, 21 operating Class III rail carriers, and 4 non-operating Class III rail carriers. A line of one of GWI's subsidiaries, Illinois & Midland Railroad, Inc., connects at Pekin, IL, with the line to be leased by TPR in the related transaction.

¹ See Tazewell & Peoria Railroad, Inc.—Lease and Operation Exemption—Peoria and Pekin Union Railway Company, STB Finance Docket No. 34544 (STB served Sept. 28, 2004).

DATES: This exemption will be effective on October 28, 2004. Petitions to stay must be filed by October 15, 2004. Petitions to reopen must be filed by October 22, 2004.

ADDRESSES: Send an original and 10 copies of all pleadings, referring to STB Finance Docket No. 34545, to: Surface Transportation Board, 1925 K Street, NW., Washington, DC 20423-0001. In addition, send one copy of pleadings to Jo A. DeRoche, Weiner Brodsky Sidman Kider PC, 1300 19th Street, NW., Fifth Floor, Washington, DC 20036-1609.

FOR FURTHER INFORMATION CONTACT: Eric S. Davis, (202) 565-1600 [Assistance for the hearing impaired is available through the Federal Information Relay Service (FIRS) at 1-800-877-8339].

SUPPLEMENTARY INFORMATION: Additional information is contained in the Board's decision. To purchase a copy of the full decision, write to, e-mail or call: ASAP Document Solutions, 9332 Annapolis Rd., Suite 103, Lanham, MD 20706; e-mail asapdc@verizon.net; telephone (301) 577-2600. [Assistance for the hearing impaired is available through FIRS at 1-800-877-8339.]

Board decisions and notices are available on our Web site at www.stb.dot.gov.

Decided: September 30, 2004.
By the Board, Chairman Nober, Vice Chairman Mulvey, and Commissioner Buttrey.
Vernon A. Williams,
Secretary.

[FR Doc. 04-22434 Filed 10-6-04; 8:45 am]

BILLING CODE 4915-01-P